DEPARTMENT OF TRANSPORTATION

Federal Aviation Administration

Waiver of Aeronautical Land-Use Assurance Marion Municipal Airport; Marion, IN

AGENCY: Federal Aviation Administration, DOT.

ACTION: Notice of intent of waiver with respect to land.

SUMMARY: The Federal Aviation Administration (FAA) is considering a proposal to authorize the release of 0.683 acres of airport property at the Marion Municipal Airport, Marion, Indiana. The State of Indiana notified the Airport of their intent to rebuild a vehicle bridge on State Highway 9 which adjoins the Airport property. The total amount of property which is sought to be purchased by the State of Indiana consists of approximately .683 acres. The FAA issued a categorical exclusion on April 18, 2011.

The acreage being released is not needed for aeronautical use as currently identified on the Airport Layout Plan.

The acreage comprising this parcel was originally acquired with a combination of local and federal funds -ADAP. The Airport will receive the appraised fair market value of $33,630.00

The legal description of the property is: A part of the Northeast Quarter of Section 36, Township 24 North, Range 7 East, Grant County, Indiana, and being that part of the grantor's land lying within the right of way lines described as follows: Beginning at the southeast corner of said quarter section, which is North 0 degrees 07 minutes 13 seconds West 2,618.30 feet from the southeast corner of said section, said southeast corner being designated as point “80” on said plat; thence South 89 degrees 19 minutes 47 seconds West 12.00 feet along the south line of said quarter section to the west boundary of S.R.9; thence continuing South 89 degrees 19 minute 47 seconds West 71.12 feet along said south line; thence North 0 degrees 26 minutes 29 seconds East 317.51 feet to point “901” designated on said plat; thence North 31 degrees 29 minutes 14 seconds East 76.32 feet to point “902” designated on said plat; thence North 89 degrees 52 minutes 47 seconds East 28.00 feet to the west boundary of said S.R. 9; thence continuing North 89 degrees 52 minutes 47 seconds East 12.00 feet to the east line of said section; thence South 0 degrees 07 minute 13 seconds East 381.70 feet along said east line to the point of beginning and containing 0.683 acres, more or less, inclusive of the presently existing right-of-way which contains 0.105 acres, more or less.

DATES: Comments must be received on or before June 6, 2011.

ADDRESSES: Documents reflecting this FAA action may be reviewed at Chicago Airports District Office, 2300 E. Devon Suite 320, Des Plaines, IL 60018.

FOR FURTHER INFORMATION CONTACT: Jim Keefer, Manager, Chicago Airports District Office, Federal Aviation Administration, Airports Division. Telephone Number 847-294-7336/Fax Number 847-294-7046.

SUPPLEMENTARY INFORMATION:

Issued in Des Plaines, Illinois on April 27, 2011.
Jack Delaney,
Acting Manager, Chicago Airports District Office, FAA, Great Lakes Region.

[FR Doc. 2011-10925 Filed 5-4-11; 8:45 am]

BILLING CODE 4910-13-P